DEPARTMENT OF LABOR

Employment and Training Administration

[TA-W-58,848]

Volvo Construction Equipment, North America Industrial Hub, Skyland, NC; Notice of Termination of Investigation

Pursuant to Section 221 of the Trade Act of 1974, as amended, an investigation was initiated on February 15, 2006 in response to a worker petition filed by a company official on behalf of workers at Volvo Construction Equipment, North America, Industrial Hub, Skyland, North Carolina.

The petitioner has requested that the petition be withdrawn. Consequently, the investigation has been terminated.

Signed at Washington, DC, this 6th day of March, 2006.
Elliott S. Kushner,
Certifying Officer, Division of Trade Adjustment Assistance.

[FR Doc. E6-4600 Filed 3-28-06; 8:45 am]

BILLING CODE 4510-30-P